DEPARTMENT OF COMMERCE

National Oceanic and Atmospheric Administration

[RTID-0648-XD729]

Draft Overview of the National Aquaculture Development Plan and Draft Strategic Plan for Aquaculture Economic Development

AGENCY: National Marine Fisheries Service (NMFS), National Oceanic and Atmospheric Administration (NOAA), Commerce.

ACTION: Notice of availability; request for comments.

SUMMARY: On behalf of the National Science and Technology Council (NSTC)'s Subcommittee on Aquaculture (SCA), NMFS announces the availability of the draft Overview of the National Aquaculture Development Plan (NADP) and draft Strategic Plan for Aquaculture Economic Development (Economic Development Plan) for public comment.

DATES: Comments on this notice must be received by April 5, 2024 to be assured of consideration.

ADDRESSES: You may download the draft Overview of the NADP and the draft Economic Development Plan at https://www.ars.usda.gov/sca/.

Submitting Comments: Interested persons may submit comments by any of the following methods:

• Electronic Submissions: Submit electronic public comments to AquacultureEcoDev@usda.gov.

Mail: Gabriela McMurtry, Attn: Aquaculture Economic Development Plan Comments, Office of Policy, F/AQ, 1315 East-West Highway, 14th Floor, Silver Spring, MD 20910. Comments sent by any other method, to any other address or individual, or received after the end of the comment person, may not be considered by the SCA. All comments received are a part of the public record and will generally be made available for public viewing upon request. Please note that personal identifying information (e.g., name, address, etc.), confidential business information, or other sensitive information submitted by the sender can be publicly accessible.

FOR FURTHER INFORMATION CONTACT: Deputy Director, Office of Aquaculture, NOAA Fisheries—David O'Brien, david.obrien@noaa.gov, (301) 427-8337. Research Agricultural Economist, USDA, Economic Research Service—Christopher G. Davis, christopher.davis2@usda.gov, (225) 253-4580. Fishery Policy Analyst, Office of Policy, NOAA Fisheries—Gabriela McMurtry, gabriela.mcmurtry@noaa.gov, (204) 293-0570.

SUPPLEMENTARY INFORMATION: The U.S. national policy on aquaculture states that Congress declares that aquaculture has the potential for reducing the U.S. trade deficit in fisheries products, for augmenting existing commercial and recreational fisheries, and for producing other renewable resources, thereby assisting the United States in meeting its future food needs and contributing to the solution of the world resource problems. It is, therefore, in the national interest, and it is the national policy, to encourage the development of aquaculture in the United States. (National Aquaculture Act of 1980, (Pub. L. 96-362, 94 Stat. 1198, 16 U.S.C. 2801, et seq.)

The SCA, previously known as the Interagency Working Group on Aquaculture and the Joint Subcommittee on Aquaculture, is a statutory subcommittee that operates under the Committee on Environment of the NSTC under the Office of Science and Technology Policy in the Executive Office of the President. It is co-chaired by the Department of Agriculture, Department of Commerce, Department of the Interior, and the White House Office of Science and Technology Policy. Members include the Department of Agriculture, Department of Commerce, Army Corps of Engineers, Department of the Interior, Food and Drug Administration, Department of State, Environmental Protection Agency, and the Office of Management and Budget. The SCA serves as the Federal interagency coordinating group to increase the overall effectiveness and productivity of Federal aquaculture research, regulation, technology transfer, and assistance programs. This interagency coordinating group has been functioning since before the National Aquaculture Act was signed into law in 1980.

Originally published in 1983, NADP encouraged domestic aquaculture development. While the National Aquaculture Act called for periodic updating, a comprehensive update to the 1983 NADP has not yet been completed. Nearly four decades have passed since the NADP, and the original NADP does not capture the progress the Federal Government and the U.S. aquaculture community have made to adopt and promote sustainable aquaculture growth and uses nor guidance for next steps for the Federal Government in that evolution.

During the past several years, the SCA has invited public input and then published strategic plans covering scientific and technological advances and outlining efficiencies for the Federal regulatory framework for aquaculture in the United States. Using the same process of public engagement, the Economic Development Task Force of the SCA prepared the draft Economic Development Plan using input from industry and other stakeholders and in collaboration with relevant experts from numerous Federal agencies.

The draft Economic Development Plan outlines actions that Federal agencies can take within their existing statutory authorities and budgetary resources to support a robust, resilient, globally competitive, and environmentally sustainable domestic aquaculture sector. The Economic Development Plan is intended to support both the viability and expansion of existing operations and to encourage new entrants, addressing needs across the seafood supply chain and diverse production systems. The proposed actions serve as points of intersection between climate-smart food production, private-public partnerships, blue economy, community resilience and health, workforce development, working waterfronts, urban and rural development, and seafood supply chains (both farmed and wild-caught). The Economic Development Plan complements two other finalized thematic strategic plans—the Strategic Plan to Enhance Regulatory Efficiency in Aquaculture and the National Strategic Plan for Aquaculture Research.

The Overview to the NADP serves as introduction and provides policy context to the three thematic strategic plans. Once finalized, together these four documents will comprise an updated NADP that provides a holistic framework describing how federal agencies are advancing the contributions of aquaculture to support public health and nutrition, resilient communities, a strong economy, and a healthy planet.

These draft plans are being issued under the following authorities: National Aquaculture Act of 1980 (Pub. L. 96-362, 94 Stat. 1198, 16 U.S.C. 2801, et seq.) and the National Aquaculture Improvement Act of 1985 (Pub. L. 99-198, 99 Stat. 1641).

Next Steps

The public is encouraged to review and comment on the draft Economic Development Plan and the draft Overview to the NADP. After the public comment period ends, the SCA will consider and address the comments received before publishing the final work plan.

Dated: February 13, 2024.
David O'Brien,
Acting Director, Office of Aquaculture, National Marine Fisheries Service.

[FR Doc. 2024-03345 Filed 2-16-24; 8:45 am]

BILLING CODE 3510-22-P